DEPARTMENT OF COMMERCE

International Trade Administration

[A-570-847]

Notice of Extension of Time Limit for the Final Results of Antidumping Duty Administrative Review: Persulfates From the People's Republic of China

AGENCY: Import Administration, International Trade Administration, Department of Commerce.

EFFECTIVE DATE: November 30, 2004.

SUMMARY: The Department of Commerce (the Department) is extending the time limit for the final results of the administrative review of the antidumping duty order on persulfates from the People's Republic of China (the PRC) to February 2, 2005. This review covers the period July 1, 2002, through June 30, 2003.

FOR FURTHER INFORMATION CONTACT: Tisha Loeper-Viti at (202) 482-7425 or David Layton at (202) 481-0371, AD/CVD Operations, Import Administration, International Trade Administration, U.S. Department of Commerce, 14th Street and Constitution Avenue, NW., Washington, DC 20230.

SUPPLEMENTARY INFORMATION: On August 6, 2004, the Department published in the Federal Register the preliminary results of the administrative review of the antidumping duty order on persulfates from the PRC. See Persulfates From the People's Republic of China: Preliminary Results of Antidumping Duty Administrative Review, 69 FR 47887 (August 6, 2004). The final results of this administrative review are currently due not later than December 6, 2004.

Section 751(a)(3)(A) of the Tariff Act of 1930, as amended (the Act), states that if it is not practicable to complete the review within the time specified, the administering authority may extend the final results to not later than 180 days following the publication of the preliminary results. The Department recalculated its preliminary results on October 29, 2004, and issued them to interested parties on November 1, 2004. In order to allow interested parties sufficient time to comment on the Department's recalculation, it is not practicable to complete this review within the time limit mandated by the Act. Therefore, in accordance with section 751(a)(3)(A) of the Act, the Department is fully extending the time period for issuing the final results of review until not later than February 2, 2005.

Dated: November 23, 2004.
Barbara E. Tillman,
Acting Deputy Assistant Secretary for Import Administration.

[FR Doc. E4-3386 Filed 11-29-04; 8:45 am]

BILLING CODE 3510-DS-S